DEPARTMENT OF HEALTH AND HUMAN SERVICES

Centers for Disease Control and Prevention

[60Day-FY-2026; Docket No. CDC-2025-1080]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other federal agencies the opportunity to comment on a continuing information collection, as required by the Paperwork Reduction Act of 1995. This notice invites comment on a proposed information collection project titled Aviation Activity Illness and Death Reporting. This data collection is designed to prevent the introduction, transmission or spread of communicable diseases from foreign countries into the United States or from one State or possession into any other State or possession in the event an individual with a confirmed or suspected communicable disease is known to have traveled on an inbound international or interstate flight.

DATES: CDC must receive written comments on or before March 16, 2026.

ADDRESSES: You may submit comments, identified by Docket No. CDC-2025-1080 by either of the following methods:

• Federal eRulemaking Portal: www.regulations.gov. Follow the instructions for submitting comments.

• Mail: Jeffrey M. Zirger, Information Collection Review Office, Centers for Disease Control and Prevention, 1600 Clifton Road NE, MS H21-8, Atlanta, Georgia 30329.

Instructions: All submissions received must include the agency name and Docket Number. CDC will post, without change, all relevant comments to www.regulations.gov.

Please note: Submit all comments through the Federal eRulemaking portal (www.regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS H21-8, Atlanta, Georgia 30329; Telephone: 404-639-7570; Email: omb@cdc.gov.

SUPPLEMENTARY INFORMATION: Under the Paperwork Reduction Act of 1995 (PRA) (44 U.S.C. 3501-3520), federal agencies must obtain approval from the Office of Management and Budget (OMB) for each collection of information they conduct or sponsor. In addition, the PRA also requires federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

Aviation Activity Illness and Death Reporting (OMB Control No. 0920-0488, Exp. 3/31/2026)—Revision—National Center for Emerging and Zoonotic Infectious Diseases (NCEZID), Centers for Disease Control and Prevention (CDC).

Background and Brief Description

The goal of this information collection is to ensure that, consistent with the authorities in the Public Health Service Act and CFR parts 70 and 71, CDC is able to prevent the introduction, transmission or spread of communicable diseases from foreign countries into the United States or from one State or possession into any other State or possession. This information collection focuses on collecting necessary information needed for CDC to conduct public health response and follow up in the event an individual with a confirmed or suspected communicable disease is known to have traveled on an inbound international or interstate flight while infectious or potentially infectious, presenting a risk of disease spread to others.

The information collection includes collection of conveyance, passenger and crew contact information from airlines (aka manifests) for contact investigations. Additionally, this information collection includes forms to obtain information on the outcomes of the contact investigations carried out by international, state, local, or territorial public health professionals to assess the impacts of CDC regulatory activities. Historically, these aviation-related data collection activities were approved under this and other different OMB Control Numbers as outlined below (OMB Control Numbers 0920-0134, 0920-1180, 0920-1181, 0920-0900). With this current submission, CDC is requesting a Revision with the aim of improving efficiency of CDC's aviation activities PRA submission process through aggregation under one OMB control number.

CDC requests OMB approval for an estimated 2,981 annual burden hours. There is no cost to respondents other than their time to participate.

Estimated Annualized Burden Hours
Type of respondents | Form name | Number of respondents | Number of responses per respondent | Average burden per response (in hours) | Total burden (in hours)
Implementation of Federal Regulations
Pilot in command | Report of death or illness onboard aircraft operated by airlines (42 CFR 70.11) (OMB Control No 0920-0488) | 500 | 1 | 7/60 | 58
Master of vessel or person in charge of conveyance | Report by the master of a vessel or person in charge of conveyance of the incidence of a communicable disease occurring while in interstate travel (42 CFR 70.4) (OMB Control No 0920-0488) | 200 | 1 | 7/60 | 23
Pilot in command | Death/Illness Reports from Aircraft (42 CFR 71.21(b)) (OMB Control No 0920-0134) | 1,400 | 1 | 7/60 | 163
Isolated or Quarantined Individuals | Report by Persons in Isolation or Surveillance (42 CFR 71.33(c)) (OMB Control No 0920-0134) | 11 | 1 | 3/60 | 1
Total |  |  |  |  | 245
During Travel Information Collection
Traveler | Air Travel Illness or Death Investigation Form (OMB 0920-0134) | 4,000 | 1 | 15/60 | 1,000
Traveler | Public Health Passenger Locator Form: limited onboard exposure (international flights) (OMB Control No 0920-1181) | 545 | 1 | 5/60 | 45
Traveler | Public Health Passenger Locator Form: limited onboard exposure (domestic flights) (OMB Control No 0920-1181) | 545 | 1 | 5/60 | 45
Total |  |  |  |  | 1,090
After Travel Information Collection
Airline Medical Officer or Equivalent/Computer and Information Systems Manager | International Airline Manifest Order (OMB Control No 0920-1180) | 350 | 1 | 150/60 | 875
Airline Medical Officer or Equivalent/Airline Administrative or Safety Manager | Domestic Airline Manifest Order (OMB Control No 0920-1180) | 500 | 1 | 90/60 | 750
State/Local/Territorial or International Public Health Staff | General Contact Investigation Outcome Reporting Form—Air (OMB Control No 0920-0900) | 60 | 1 | 5/60 | 5
State/Local/Territorial or International Public Health Staff | Measles Contact Investigation Outcome Reporting Form—Air (OMB Control No 0920-0900) | 72 | 1 | 5/60 | 6
Territorial or International Public Health Staff | Rubella Contact Investigation Outcome Reporting Form—Air (OMB Control No 0920-0900) | 1 | 1 | 5/60 | 1
State/Local/Territorial or International Public Health Staff | TB Aircraft Contact Investigation Outcome Reporting Form (OMB Control No 0920-0900) | 51 | 1 | 10/60 | 9
Total |  |  |  |  | 1,646
Total Burden |  |  |  |  | 2,981

Jeffrey M. Zirger,
Lead, Information Collection Review Office, Office of Public Health Ethics and Regulations, Office of Science, Centers for Disease Control and Prevention.

[FR Doc. 2026-00423 Filed 1-12-26; 8:45 am]

BILLING CODE 4163-18-P